DEPARTMENT OF THE TREASURY

Alcohol and Tobacco Tax and Trade Bureau

27 CFR Part 9

[Docket No. TTB-2011-0007; Notice No. 121]

RIN 1513-AB82

Proposed Establishment of the Wisconsin Ledge Viticultural Area

AGENCY: Alcohol and Tobacco Tax and Trade Bureau, Treasury.

ACTION: Notice of proposed rulemaking.

SUMMARY: The Alcohol and Tobacco Tax and Trade Bureau proposes to establish the approximately 3,800 square-mile “Wisconsin Ledge” viticultural area in northeast Wisconsin. TTB designates viticultural areas to allow vintners to better describe the origin of their wines and to allow consumers to better identify wines they may purchase. TTB invites comments on this proposed addition to its regulations.

DATES: TTB must receive your comments on or before December 13, 2011.

ADDRESSES: Please send your comments on this notice to one of the following addresses:

• http://www.regulations.gov (via the online comment form for this notice as posted within Docket No. TTB-2011-0007 at “Regulations.gov,” the Federal e-rulemaking portal);

• U.S. Mail: Director, Regulations and Rulings Division, Alcohol and Tobacco Tax and Trade Bureau, P.O. Box 14412, Washington, DC 20044-4412; or

• Hand delivery/courier in lieu of mail: Alcohol and Tobacco Tax and Trade Bureau, 1310 G Street, NW., Suite 200-E, Washington, DC 20005.

See the Public Participation section of this notice for specific instructions and requirements for submitting comments, and for information on how to request a public hearing.

You may view copies of this notice, selected supporting materials, and any comments TTB receives about this proposal at http://www.regulations.gov within Docket No. TTB-2011-0007. A link to that docket is posted on the TTB Web site at http://www.ttb.gov/wine/wine_rulemaking.shtml under Notice No. 121. You also may view copies of this notice, all related petitions, maps, or other supporting materials, and any comments TTB receives about this proposal by appointment at the TTB Information Resource Center, 1310 G Street, NW., Washington, DC 20220. Please call 202-453-2270 to make an appointment.

FOR FURTHER INFORMATION CONTACT: Elisabeth C. Kann, Regulations and Rulings Division, Alcohol and Tobacco Tax and Trade Bureau, 1310 G Street, NW., Washington, DC 20220; phone 202-453-1039, ext. 002.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the regulations promulgated under the FAA Act.

Part 4 of the TTB regulations (27 CFR part 4) allows the establishment of definitive viticultural areas and the use of their names as appellations of origin on wine labels and in wine advertisements. Part 9 of the TTB regulations (27 CFR part 9) sets forth standards for the preparation and submission of petitions for the establishment or modification of American viticultural areas and lists the approved American viticultural areas.

Definition

Section 4.25(e)(1)(i) of the TTB regulations (27 CFR 4.25(e)(1)(i)) defines a viticultural area for American wine as a delimited grape-growing region having distinguishing features as described in part 9 of the regulations and a name and a delineated boundary as established in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.12 of the TTB regulations (27 CFR 9.12) prescribes standards for petitions for the establishment or modification of American viticultural areas. Such petitions must include the following:

• Evidence that the area within the proposed viticultural area boundary is nationally or locally known by the viticultural area name specified in the petition;

• An explanation of the basis for defining the boundary of the proposed viticultural area;

• A narrative description of the features of the proposed viticultural area that affect viticulture, such as climate, geology, soils, physical features, and elevation, that make the proposed viticultural area distinctive and distinguish it from adjacent areas outside the proposed viticultural area boundary;

• A copy of the appropriate United States Geological Survey (USGS) map(s) showing the location of the proposed viticultural area, with the boundary of the proposed viticultural area clearly drawn thereon; and

• A detailed narrative description of the proposed viticultural area boundary based on USGS map markings.

Wisconsin Ledge Petition

TTB received a petition from Steven J. DeBaker of Trout Springs Winery in Green Leaf, Wisconsin, to establish the “Wisconsin Ledge” American viticultural area. The proposed viticultural area contains approximately 3,800 square miles, with approximately 320 acres of vineyards in at least 14 commercially-producing vineyards and wineries, and an additional 70 acres projected to be planted within the next two years. A map that was submitted with the petition shows that the commercial vineyards and wineries are geographically disbursed throughout the proposed viticultural area. The proposed Wisconsin Ledge viticultural area lies in Door, Kewaunee, Manitowoc, Sheboygan, Ozaukee, Washington, Dodge, Fond du Lac, Calumet, Outagamie, and Brown Counties of northeast Wisconsin and does not overlap, or otherwise involve, any existing or proposed viticultural area.

The proposed Wisconsin Ledge viticultural area is largely surrounded by water, including Lake Winnebago, the Fox River, Green Bay, and Lake Michigan. The distinguishing features of the proposed area are its geology, geography, climate, hydrology, and soils. According to the petition, the region is heavily affected by the lasting effects of ancient glacial activity and the moderating marine influence of the surrounding bodies of water.

Name Evidence

As stated in the petition, the “Wisconsin Ledge” name combines the state name of “Wisconsin” with “Ledge,” the geographical name commonly used by Wisconsin residents to refer to the region.

The petition explains that the proposed Wisconsin Ledge viticultural area is located in the northern portion of the Niagara Cuesta landform, which is the easterly sloping plateau-like surface of the western edge of the bowl formed by the Niagara Escarpment. As described in the preamble to T.D. TTB-33, which established the “Niagara Escarpment” viticultural area in Niagara County, New York (published in the Federal Register at 70 FR 53300 on September 8, 2005), the Niagara Escarpment is “a limestone ridge that runs for more than 650 miles through the Great Lakes region [and] forms a horseshoe that begins near Rochester, New York, and continues west through southern Ontario, Canada, Lake Huron, the upper peninsula of Michigan, and terminates in eastern Wisconsin.” The petition states that “the Ledge” is the name generally used to refer to the specific region in which the proposed Wisconsin Ledge viticultural area is located, which is in the northeastern part of Wisconsin bordering Lake Michigan and Green Bay.

The Ledge region is widely referenced in local newspaper reports, some of which are exhibits to the petition. For example, one report entitled “The Ledge” details the discoveries of skeletons, pottery, and cooking utensils “on the ledge” during local explorations (“The Ledge,” Fond du Lac Daily Reporter, Feb. 23, 1907). Another report describes horticultural rare blooms and ancient calendars found along “the ledge” landscape (“Ledge discoveries cloud 151 Bypass options,” Fond du Lac Reporter, April 26, 2009). A third report discusses the “limestone backbone of the Niagara Escarpment we fondly call the Ledge” (“We are citizens of the Earth,” Fond du Lac Reporter, April 19, 2009). As described in that report, local residents planned to band together and “tramp the ancient Ledge” to view the effigy mounds and petroform markers left behind long ago by Native Americans.

The petition further notes that “the Ledge” is part of the name of many local businesses within the proposed viticultural area, including LedgeStone Vineyards, Top of the Ledge Campground, and Pheasants on the Ledge. In addition, among other name evidence cited in the petition, “the Ledge” is referenced in local real estate listings to describe the location of area properties, it is identified in a fact sheet provided by the Niagara Escarpment Resource Network that describes the Ledge portion of the Niagara Escarpment, and it is described in the Comprehensive Conservation Plan for the Horicon and Fox River National Wildlife Refuges.

Finally, the petition adds that Horicon Ledge Park, Ledge View County Park, and Ledge View Nature Center, all of which are county parks or nature centers located within the proposed viticultural area, include “ledge” in their names.

Boundary Evidence

The petition states that the geographical area encompassing the proposed Wisconsin Ledge viticultural area is an upland area between 7 and 20 miles wide at its northern end on the Door Peninsula and 25 to 50 miles wide to the south, near Port Washington. In total, the Ledge landform is 172 miles long north-to-south, and 50 miles wide east-to-west, and it is the primary basis for the proposed boundary line. The proposed Wisconsin Ledge viticultural area is generally triangular-shaped, with the west leg of the triangle primarily bounded by Lake Winnebago, the Fox River, and Green Bay, and the east leg of the triangle bounded by Lake Michigan. The base of the triangle follows various state and local roads.

According to the USGS maps and the proposed boundary description submitted with the petition, the proposed boundary line begins at the northernmost tip of the Door Peninsula, and it then continues southward along the Lake Michigan shorelines of Kewaunee, Manitowoc, and Sheboygan Counties, to a point east of Cedarburg in Ozaukee County. The boundary line then turns inland and westward away from the Lake Michigan shoreline, according to the USGS maps.

The petition explains that the southern portion of the boundary line uses state and local roads that follow terrain changes. The proposed boundary line extends through Ozaukee and Washington Counties, to a point north of Clyman Junction in Dodge County. The landscape within the proposed area contrasts with the areas to the south of the boundary line, toward Milwaukee and northern Illinois, where elevations decline to a more flat, discontinuous, and dissected topography. The area to the south of the proposed Wisconsin Ledge viticultural area has been described as generally flatter, more urbanized, densely populated, and lacking viticultural potential (“The Physical Geography of Wisconsin,” Lawrence Martin, University of Wisconsin Press, 1965, page 281).

The western portion of the proposed boundary line extends north-northeast into Fond du Lac County, eventually meeting the southern shoreline of Lake Winnebago. The proposed boundary line then proceeds north-northeast along Lake Winnebago's eastern shoreline to a road that then connects the boundary with the Fox River. The boundary then follows the river, which flows north-northeast, to Green Bay. The proposed boundary line then follows the eastern shoreline of Green Bay north to the Porte de Morts Passage and the starting point on the Door Peninsula. The USGS maps show a combination of large bodies of water and rural areas immediately to the west of the proposed Wisconsin Ledge viticultural area. According to the USGS maps, the Ledge landform slopes eastward within the proposed viticultural area and has decreasing elevations towards the Lake Michigan shoreline.

Distinguishing Features

According to the petition, the distinguishing features of the proposed Wisconsin Ledge viticultural area are its geology, geography, climate, hydrology, and soils. Given that the proposed viticultural area is surrounded by water to the east, north, and northwest, TTB notes that the sections below only contrast the distinguishing features of the proposed viticultural area to the surrounding areas to the south, southwest, and west.

Geology

The petition states that the proposed Wisconsin Ledge viticultural area is a geomorphologic land mass that formed over 420 million years ago. The area was shaped by repeated glaciations, including a 2,000-meter thick ice sheet and climatic erosion that altered the landform and brought in igneous and metamorphic rocks from other places (“The Physical Geography of Wisconsin,” supra, at page 248).

The petition explains that, in the time between the Jurassic Era and today, erosion created much of the Ledge region landscape. During the Paleozoic Era, the edges of rock layers (Michigan Basin bowls) were leveled off and exposed. The thin outer edges of the hard, resistant formations eventually wore away, leaving high cliffs and escarpments, according to the petition.

The petition further explains that the glacial ice sheet left deposits of unsorted till (finely ground particles), or boulder clay, and stratified gravel, sand, and clay throughout the region (“Wisconsin Geological and Natural History Survey Map,” “General Soils of Wisconsin,” F. D. Hale, 1973, Figure 8a). The glacial deposition of till and rock fragments created massive moraines that rise up to 20 meters above the surrounding landscape. As the glaciers slowly receded, limestone and till were deposited on the surface to form till plains, according to the petition. The petition states that the resulting broad sloping cuesta is viticulturally beneficial because the glacial till and well-drained strata are well-suited for grape-growing, especially when combined with the light breezes and moderated climate due to the surrounding bodies of water.

South of the proposed Wisconsin Ledge viticultural area are the Southeast Glacial Plains (“Ecological Landscapes of Wisconsin-Southeast Glacial Plains Landscape,” Wisconsin Department of Natural Resources Web site, http://dnr.wi.gov/landscapes/, January 10, 2009). The petition states that, although the southeast plains area received glacial deposits, its topography is more discontinuous and its soils are more fertile than those of the Wisconsin Ledge region because it is covered with silt-loam loess cap.

The USGS maps submitted with the petition show that the lowlands around the Rock River, Lake Winnebago, and Green Bay are to the west of the proposed Wisconsin Ledge viticultural area. The floor of the lowlands is composed of the back slope of Galena-Black River limestone. The limestone is mainly buried beneath glacial drift, but it is evident in some surface areas near quarries. The area to the west of the proposed Wisconsin Ledge viticultural area is generally flat and includes Green Bay, several lakes, and many small ponds and streams, according to the USGS maps.

Further west of the Ledge region and the lowlands, lakes, and Green Bay are the Magnesian and Black River Cuestas (“The Physical Geography of Wisconsin,” supra, at page 214). These cuestas are a part of the driftless area of southwest Wisconsin, which escaped the most recent glaciations and residual drift (“Dip Slope, West Shore of Green Bay,” site map, “Geological Features of Wisconsin-Niagara Escarpment,” Steven Dutch, University of Wisconsin Green Bay, 1999). The petition notes that the lack of glacial activity to the west contrasts with the geological history to the east in the Ledge region.

Geography

The petition states that the proposed Wisconsin Ledge viticultural area has a gently rolling landscape of drifted, mantled plains broken by areas of steep slope. The upland elevations mostly contain dolomitic limestone and layers of glacial till, which are beneficial for grape-growing, according to the petition. In addition, the higher elevations of the Ledge region prevent other sediments from the lower north, south, and west elevations from spreading to the upland area. The Niagara Cuesta, which includes the Ledge region, ends at Lake Winnebago, Green Bay, and the Fox River, which generally form the western portion of the boundary line of the proposed viticultural area. To the west is the lower Magnesian Cuesta, which has flat and swampy lowland features, according to the petition.

The USGS maps submitted with the petition show that elevations vary by approximately 600 feet within the proposed Wisconsin Ledge viticultural area. TTB notes that the lowest elevations, at about 580 feet, are along the shorelines of Green Bay, which forms much of the western portion of the proposed boundary line, and Lake Michigan, which forms all of the northern and eastern portions of the proposed boundary line. The highest elevations, at approximately 1,060 feet, are located in the southwest interior part of the proposed Wisconsin Ledge viticultural area, near Herman Center in Dodge County, according to USGS maps.

The petition states that the upland part of the Niagara Cuesta landform, which is a geological mass of thick, hard, continuous limestone bedrock, extends from the northern tip of Door County southward toward the state line. As noted above, the proposed Wisconsin Ledge viticultural area is in the northern, higher elevation part of the Niagara Cuesta, and the proposed viticultural area includes most of the Wisconsin portion of the Niagara Escarpment ridgeline. The Niagara Escarpment crest, at 1,060 feet in elevation, distinguishes the Ledge region, the petition explains. To the south of the proposed viticultural area, the Niagara Escarpment decreases in elevation so that it is no longer a conspicuous topographical feature near Waukesha and Oconomowoc.

The petition adds that the broad sloping portion of the Niagara Cuesta that is within the proposed viticultural area is the portion that is best suited for viticulture, largely because of the glacial till covering in the area. According to the petition, the land in the surrounding regions does not contain the dolomitic limestone and thin layers of glacial till that are found in the proposed Wisconsin Ledge viticultural area due to the decreased glaciations and differing geological history in the lower elevation regions to the west and south.

The petition further explains that the topography changes significantly at Cedarburg, which is to the south of the proposed Wisconsin Ledge viticultural area. From that point, the landscape slowly declines in elevation to a near-flat, dissected topography that includes urban areas. The petition also states that the southwestern portion of the proposed boundary line separates the proposed Wisconsin Ledge viticultural area from the relatively flat lowlands of the Rock River, Lake Winnebago, and the Green Bay area to the west of the proposed Wisconsin Ledge viticultural area.

Climate

According to the petition, the proposed Wisconsin Ledge viticultural area has a significant marine influence, which results in moderated climatic conditions that are conducive to viticulture. The marine influence from Lake Michigan, Lake Winnebago, and Green Bay, along with the elevated ledge landform, creates a growing season that is generally longer and warmer than in areas outside of the proposed viticultural area, the petition explains.

As described in the petition, the large bodies of water that surround much of the proposed Wisconsin Ledge viticultural area serve as heat storage tanks that moderate the near-shore land climates (“Confront Climate Change in the Great Lakes Region,” a consensus opinion by the Union of Concerned Scientists-The Ecological Society of America). The petition further explains that the waters of the lakes and Green Bay warm and cool more slowly with the changing seasons than the surrounding land, moderating the summer mean maximum and winter mean minimum temperatures in the proposed Wisconsin Ledge viticultural area. The petition notes that climatic conditions to the west of the proposed Wisconsin Ledge viticultural area are not temperature-moderated by the warm winds from Lake Michigan, Lake Winnebago, and Green Bay because the wind speeds west of the Ledge region drop significantly further inland to the west of Lake Winnebago and Green Bay.

The petition also states that the slow seasonal changes in water temperatures surrounding the Ledge region reduce the chance for late spring frosts or early fall freezes. In addition, according to the petition, the slope and elevation changes of the Ledge create an air circulation movement pattern that reduces frost damage occurrences, mildew, and other humidity-related grape-growing problems. By contrast, to the south of the Ledge area, cold air masses pool on the flat, low terrain and are unable to drain eastward into Lake Michigan, and the areas to the west of the proposed viticultural area lack the elevational differences that are necessary for climate migration, according to the petition.

The table below shows temperature, growing degree day ¹ (GDD), and growing season information for locations within the proposed Wisconsin Ledge viticultural area and in other parts of Wisconsin (based on a data provided by the State of Wisconsin Climatology Office, 1971-2000).

¹ In the Winkler climatic classification system, annual heat accumulation during the growing season, measured in annual GDD, defines climatic regions. One GDD accumulates for each degree Fahrenheit that a day's mean temperature is above 50 degrees, the minimum temperature required for grapevine growth (“General Viticulture,” by Albert J. Winkler, University of California Press, 1974, pages 61-64).

Weather stations | Average annual temperature | September GDD | Spring start date average-growing season | Fall end date average- growing season | Annual average number of days-growing season
Locations Within Proposed Wisconsin Ledge Viticultural Area
Sturgeon Bay (north—Lake Michigan shore) | 43.6 | 306 | May 10 | October 8 | 150
Kewaunkee (central—Lake Michigan shore) | 44.1 | 294 | May 3 | October 8 | 159
Manitowoc (south—inland) | 45.4 | 334 | May 5 | October 9 | 161
Sheboygan (south—Lake Michigan shore) | 47.1 | 391 | April 23 | October 19 | 184
Averages | 45.05 | 331 | May 3 | October 11 | 164
Locations Outside Proposed Wisconsin Ledge Viticultural Area
Lakewood (northeast WI) | 41.7 | 215 | May 29 | September 20 | 140
Rosholt (central WI) | 41.5 | 246 | May 21 | September 22 | 126
Marshfield (central WI) | 42.8 | 289 | May 13 | September 25 | 138
Baraboo (south central WI) | 43.4 | 287 | May 19 | September 23 | 128
Burlington (southeast corner of WI) | 45.8 | 348 | May 10 | September 20 | 150
Averages | 43.04 | 277 | May 18 | September 22 | 136

As shown in the table, the climate in the proposed Wisconsin Ledge viticultural area provides an average annual temperature that is only about 2 degrees Fahrenheit higher than the other listed locations in the State, but the temperatures in the proposed viticultural area are significantly warmer than the surrounding areas in September, with an average of 54 GDD units more than the locations outside of the proposed viticultural area during the month.

The petition explains that the cumulative effect of the moderated climate and warm September temperatures in the proposed viticultural area creates an average grape growing season that is longer than in other parts of Wisconsin. The petition states that the data in the above table illustrates this point, with an average growing season in the proposed viticultural area of 164 days that on average runs from May 3 to October 11 annually, whereas in the rest of Wisconsin, the growing season averages only 136 days, running on average from May 18 to September 22 annually. As a result, according to the petition, the growing season continues in the proposed Wisconsin Ledge viticultural area for an average of three weeks longer than in other areas, resulting in additional hang time for grapes to reach maturity prior to harvest.

Hydrology

The proposed Wisconsin Ledge viticultural area is primarily underlain by the Eastern Dolomite Aquifer (“The Physical Geography of Wisconsin,” supra, at pages 12 and 21). The petition states that Dolomite resembles limestone and contains ground water. The yield of water from the aquifer depends on the porosity of the carbonate rock and frequency of cracks or fractures. The unique rock formations and water patterns of the Eastern Dolomite Aquifer vary from other areas of the state, which are primarily covered by the Sand and Gravel Aquifer, according to the petition.

In addition, mineral rich water and dolomite limestone, which the petition notes are important factors for viticulture, are common in the Wisconsin Ledge region (“The Physical Geography of Wisconsin,” page 21). The petition explains that the carbonate rock and porous karst features of the Eastern Dolomite Aquifer enhance the delivery and availability of water and nutrients to grapevines because nutrients are added to the water as it travels through the porous rock, which then enriches area soils and grapevines.

Further, according to the petition, the Eastern Dolomite Aquifer has a constant 50 degrees Fahrenheit water temperature, which provides a moderating effect that yields more consistent soil temperatures. The petition also notes that early spring and late fall fogs form from the constant 50 degree Fahrenheit groundwater that reacts to the much colder air temperatures; those fogs blanket the area and help protect the vineyards from damaging freezes and frosts.

The petition states that the Eastern Dolomite Aquifer is unique to the eastern-most part of Wisconsin, including the Wisconsin Ledge region and the adjacent parts of Lake Michigan. As described in the petition, the aquifer rock formation rises to the Earth's surface in the Ledge region and then eventually dips eastward under the waters of Lake Michigan. By comparison, the Sand and Gravel Aquifer that covers most of Wisconsin is easily contaminated because the top of the aquifer is also the land surface, according to the petition. In addition, the petition notes that water flow in the Sand and Gravel Aquifer is highly variable due to the spatial variability of the sand and gravel deposits, and water from the aquifer contains fewer nutrients because it has a short residence time in the aquifer and discharges close to the recharge point of the aquifer.

Soils

According to the petition, the soils deposited in the Ledge region by the glacial drift are unsorted till and stratified gravel, sand, and clay (“General Soils of Wisconsin,” supra), which are well-suited for viticulture. As stated in the petition, these soils have ample permeability with average to steep slopes and contain fragments of local limestone, shale, and igneous and metamorphic rocks that the glacial ice sheet brought to the region. Although the soils in the Ledge region vary somewhat, they generally come from glacial drift, with Miami and Coloma loams as the two general soil types in the proposed Wisconsin Ledge viticultural area, according to the petition. The petition further states that the ground moraine that covers most of the proposed Wisconsin Ledge viticultural area has a variable, slightly rolling topography of drift-mantled plains. Composed largely of till, the ground moraine also contains small amounts of stratified sand, gravel, and a base of dolomite bedrock (“Bedrock Geology of Wisconsin,” map, University of Wisconsin-Extension, Geological and Natural History Survey, April 1981).

The petition explains that the soils to the south and west of the proposed Wisconsin Ledge viticultural area have less glacial till and fewer rock formations. Those soils are sandier with less limestone and more organic composition (generally rich fertile black loam) as compared to the prairie soils and sandy plains that are common in the Wisconsin Ledge.

TTB Determination

TTB concludes that the petition to establish the approximately 3,800 square mile Wisconsin Ledge viticultural area merits consideration and public comment, as invited in this notice.

Boundary Description

See the narrative boundary description of the petitioned-for viticultural area in the proposed regulatory text published at the end of this notice.

Maps

The petitioner provided the required maps, and TTB lists them below in the proposed regulatory text.

Impact on Current Wine Labels

Part 4 of the TTB regulations prohibits any label reference on a wine that indicates or implies an origin other than the wine's true place of origin. If TTB establishes this proposed viticultural area, its name, “Wisconsin Ledge,” will be recognized as a name of viticultural significance under 27 CFR 4.39(i)(3). The text of the proposed regulation clarifies this point.

On the other hand, TTB does not believe that any single part of the proposed viticultural area name standing alone, that is, “Wisconsin” or “Ledge,” would have viticultural significance in relation to this proposed viticultural area because “Wisconsin,” standing alone, is locally and nationally known as referring to the State of Wisconsin, which is already a term of viticultural significance as a state-wide appellation of origin under 27 CFR 4.25(a)(1)(ii), which provides that a State is an American appellation of origin, and 27 CFR 4.39(i)(3), which notes that “[a] name has viticultural significance when it is the name of a state * * *”; and the term “ledge” refers to a common geographical landform found in many locations in the United States and internationally. Therefore, the proposed part 9 regulatory text set forth in this document specifies only “Wisconsin Ledge” as a term of viticultural significance for purposes of part 4 of the TTB regulations.

If this proposed regulatory text is adopted as a final rule, wine bottlers using “Wisconsin Ledge” in a brand name, including a trademark, or in another label reference as to the origin of the wine, will have to ensure that the product is eligible to use “Wisconsin Ledge” as an appellation of origin.

For a wine to be labeled with a viticultural area name or with a brand name that includes a viticultural area name or other term identified as being viticulturally significant in part 9 of the TTB regulations, at least 85 percent of the wine must be derived from grapes grown within the area represented by that name or other term, and the wine must meet the other conditions listed in 27 CFR 4.25(e)(3). If the wine is not eligible for labeling with the viticultural area name or other viticulturally significant term and that name or term appears in the brand name, then the label is not in compliance and the bottler must change the brand name and obtain approval of a new label. Similarly, if the viticultural area name or other viticulturally significant term appears in another reference on the label in a misleading manner, the bottler would have to obtain approval of a new label.

Different rules apply if a wine has a brand name containing a viticultural area name or other term of viticultural significance that was used as a brand name on a label approved before July 7, 1986. See 27 CFR 4.39(i)(2) for details.

Public Participation

Comments Invited

TTB invites comments from interested members of the public on whether it should establish the proposed Wisconsin Ledge viticultural area. TTB is interested in receiving comments on the sufficiency and accuracy of the name, boundary, climate, and other required information submitted in support of the petition. Please provide any available specific information in support of your comments.

Because of the potential impact of the establishment of the proposed Wisconsin Ledge viticultural area on wine labels that include the term “Wisconsin Ledge” as discussed above under Impact on Current Wine Labels, TTB is also interested in comments as to whether there will be a conflict between the proposed viticulturally significant term and currently used brand names. If a commenter believes that a conflict will arise, the comment should describe the nature of that conflict, including any anticipated negative economic impact that approval of the proposed viticultural area will have on an existing viticultural enterprise. TTB is also interested in receiving suggestions for ways to avoid conflicts, for example, by adopting a modified or different name for the viticultural area.

Submitting Comments

You may submit comments on this notice by using one of the following three methods:

• Federal e-Rulemaking Portal: You may send comments via the online comment form posted with this notice within Docket No. TTB-2011-0007 on “Regulations.gov,” the Federal e-rulemaking portal, at http://www.regulations.gov. A direct link to that docket is available under Notice No. 121 on the TTB Web site at http://www.ttb.gov/wine/wine_rulemaking.shtml. Supplemental files may be attached to comments submitted via Regulations.gov. For complete instructions on how to use Regulations.gov, visit the site and click on “User Guide” under “How to Use this Site.”

• U.S. Mail: You may send comments via postal mail to the Director, Regulations and Rulings Division, Alcohol and Tobacco Tax and Trade Bureau, P.O. Box 14412, Washington, DC 20044-4412.

• Hand Delivery/Courier: You may hand-carry your comments or have them hand-carried to the Alcohol and Tobacco Tax and Trade Bureau, 1310 G Street, NW., Suite 200-E, Washington, DC 20005.

Please submit your comments by the closing date shown above in this notice. Your comments must reference Notice No. 121 and include your name and mailing address. Your comments also must be made in English, be legible, and be written in language acceptable for public disclosure. TTB does not acknowledge receipt of comments, and TTB considers all comments as originals.

If you are commenting on behalf of an association, business, or other entity, your comment must include the entity's name as well as your name and position title. If you comment via http://www.regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

On the Federal e-rulemaking portal, Regulations.gov, TTB will post, and you may view, copies of this notice, selected supporting materials, and any electronic or mailed comments TTB receives about this proposal. A direct link to the Regulations.gov docket containing this notice and the posted comments received on it is available on the TTB Web site at http://www.ttb.gov/wine/wine_rulemaking.shtml under Notice No. 121. You may also reach the docket containing this notice and the posted comments received on it through the Regulations.gov search page at http://www.regulations.gov. For instructions on how to use Regulations.gov, visit the site and click on “User Guide” under “How to Use this Site.”

All posted comments will display the commenter's name, organization (if any), city, and state, and, in the case of mailed comments, all address information, including e-mail addresses. TTB may omit voluminous attachments or material that it considers unsuitable for posting.

You also may view copies of this notice, all related petitions, maps and other supporting materials, and any electronic or mailed comments TTB receives about this proposal by appointment at the TTB Information Resource Center, 1310 G Street, NW., Washington, DC 20220. You may also obtain copies at 20 cents per 8.5- x 11-inch page. Contact TTB's information specialist at the above address or by telephone at 202-927-2270 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866. Therefore, it requires no regulatory assessment.

Drafting Information

Elisabeth C. Kann of the Regulations and Rulings Division drafted this notice.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.____ to read as follows:

§ 9.__ Wisconsin Ledge.

(a) Name. The name of the viticultural area described in this section is “Wisconsin Ledge”. For purposes of part 4 of this chapter, “Wisconsin Ledge” is a term of viticultural significance.

(b) Approved maps. The 11 United States Geological Survey 1:100,000 scale topographic maps used to determine the boundary of the Wisconsin Ledge viticultural area are titled:

(1) Door County, Wisconsin, 1986;

(2) Kewaunee County, Wisconsin, 1985;

(3) Manitowoc County, Wisconsin, 1986;

(4) Sheboygan County, Wisconsin, 1986;

(5) Ozaukee County, Wisconsin, 1986;

(6) Washington County, Wisconsin, 1986;

(7) Dodge County, Wisconsin, 1986;

(8) Fond du Lac County, Wisconsin, 1986;

(9) Calumet County, Wisconsin, 1986;

(10) Outagamie County, Wisconsin, 1985; and

(11) Brown County, Wisconsin, 1984.

(c) Boundary. The Wisconsin Ledge viticultural area is located in northeast Wisconsin in Door, Kewaunee, Manitowoc, Sheboygan, Ozaukee, Washington, Dodge, Fond du Lac, Calumet, Outagamie, and Brown Counties. The boundary of the Wisconsin Ledge viticultural area is as described below:

(1) The beginning point is shown on the Door County map and is located at the northern end of the Door Peninsula at the point where the R28E and R29E common boundary line intersects with the Lake Michigan shoreline at Gills Rock in Hedgehog Harbor. From the beginning point, proceed easterly along the shoreline to Northport and then continue southerly along the meandering Lake Michigan shoreline, passing in succession over the Kewaunee, Manitowoc, and Sheboygan County maps and onto the Ozaukee County map to the intersection of the Lake Michigan shoreline with a line drawn as an easterly extension of County Highway T (locally known as Lakefield Road), east of Cedarburg; then

(2) Proceed west on County Highway T through Cedarburg, crossing onto the Washington County map, passing over the North Western railroad single track, and continuing to the intersection of County Highway T with U.S. Route 45; then

(3) Proceed north on U.S. Route 45 to the intersection of U.S. Route 45 with State Road 60, south of Hasmer Lake; then

(4) Proceed westerly on State Road 60, crossing onto the Dodge County map, to the intersection of State Road 60 with State Road 26 at Casper Creek, north-northwest of Clyman Junction; then

(5) Proceed northerly on State Road 26 to the intersection of State Road 26 with U.S. Route 151, north of Plum Creek in the Chester Township; then

(6) Proceed northerly on U.S. Route 151, passing through Waupun onto the Fond du Lac County map, and continue northeasterly into the City of Fond du Lac to the point where U.S. Route 151 turns east, and, from that point, continue north in a straight line to the south shore of Lake Winnebago in Lakeside Park; then

(7) Proceed northerly along the eastern shoreline of Lake Winnebago, crossing onto the Calumet County map, to the intersection of the shoreline with a line drawn as a southerly extension of County Highway N at Highland Beach in Harrison Township; then

(8) Proceed north on County Highway N, crossing onto the Outagamie County map, to the intersection of County Highway N with the Fox River; then

(9) Proceed northeasterly (downstream) along the Fox River, crossing onto the Brown County map, until the Fox River meets the southern shoreline of Green Bay; and then

(10) Proceed northeasterly along the eastern shoreline of Green Bay, passing over the Kewaunee County map and onto the Door County map, returning to the beginning point.

Signed: September 13, 2011.
John J. Manfreda,
Administrator.

[FR Doc. 2011-26298 Filed 10-11-11; 8:45 am]

BILLING CODE 4810-31-P